DEPARTMENT OF STATE

[Public Notice 3282]

Advisory Committee on International Communications and Information Policy; Change in Meeting Notice

The Department of State is rescheduling a special meeting of its Advisory Committee on International Communications and Information Policy. The meeting, originally scheduled for Monday, May 15, 2000, is being rescheduled to Monday, June 26, 2000, in order to allow additional time for written submissions.

The Committee provides a formal channel for regular consultation and coordination on major economic, social and legal issues and problems in international communications and information policy, especially as these issues and problems involve users of information and communication services, providers of such services, technology research and development, foreign industrial and regulatory policy, the activities of international organizations with regard to communications and information, and developing country interests.

This special meeting will take the format of a hearing to solicit and receive testimony on the subject of “best practices” used by telecommunications regulators, competition authorities, and legislatures, etc. outside the United States that facilitate competition in the provision of telecommunications services and/or networks.

The purpose of the Advisory Committee soliciting this testimony is to develop a list of these best policies implemented by countries outside the United States that will be helpful to the Department of State and the U.S. Government more broadly in recognizing and promoting pro-competitive telecommunications practices abroad. The intent is that these will provide concrete examples of where and how telecommunications competition has been implemented successfully. These “best practices” may take the form of the adoption of general policies, particular sets of rules, particular pricing regimes, specific enforcement initiatives, a particular form of regulation or specific transition requirement in moving from a monopoly situation to a competitive environment.

The target audience from whom the Advisory Committee would like to solicit this testimony includes the telecommunications and information technology industries, consumer groups, academia, lawyers, and consultants, as well as from the general public.

The Advisory Committee requests that interested parties provide written submissions, not to exceed two pages for each best practice (not counting attachments), that answer the following questions:

Best Practice

1. What is the best practice? (Describe it. What competitive issues does it address? How has the practice been pro-competitive?)

2. Who implemented the practice and how transferable does the submitter think it will be to other countries?

3. What next steps can be taken to improve this practice?

4. Identify your name, organization, and contact information (phone number and e-mail address). Please state whether someone from your organization is willing to attend the meeting scheduled for June 26, 2000, at the Department of State in Washington to briefly present this suggestion (3-5 minute presentation depending upon the number of suggestions submitted).

Written material must be submitted electronically to the Executive Secretary of the Advisory Committee, Timothy C. Finton, at <fintontc@state.gov> no later than 5:00 p.m. (Eastern Daylight Time) on Wednesday, June 14. Additionally, hardcopies of submissions may be mailed to Timothy C. Finton at EB/CIP, Room 4826, U.S. Department of State, 2201 C Street, NW., Washington, DC to be received by June 14.

The meeting will be held on Monday, June 26, 2000, from 9:30 a.m.-11:30 a.m. in Room 1105 of the Main Building of the U.S. Department of State, located at 2201 “C” Street, NW., Washington, DC 20520.

Members of the public may attend these meetings up to the seating capacity of the room. While the meeting is open to the public, admittance to the State Department Building is only by means of a pre-arranged clearance list. In order to be placed on the pre-clearance list, please provide your name, title, company, social security number, date of birth, and citizenship to Timothy C. Finton at <fintontc@state.gov>. All attendees for this meeting must use the 23rd Street entrance. One of the following valid ID's will be required for admittance: any U.S. driver's license with photo, a passport, or a U.S. Government agency ID. Non-U.S. Government attendees must be escorted by State Department personnel at all times when in the State Department building.

For further information, contact Timothy C. Finton, Executive Secretary of the Committee, at (202) 647-5385 or <fintontc@state.gov>.

Dated: May 4, 2000.
Timothy C. Finton,
Executive Secretary, Advisory Committee on International Communications and Information Policy, Department of State.

[FR Doc. 00-11667 Filed 5-8-00; 8:45 am]

BILLING CODE 4710-45-U